DEPARTMENT OF TRANSPORTATION

Federal Motor Carrier Safety Administration

[Docket No. FMCSA-2006-24147]

Notice of Request for Clearance of a New Information Collection: Assessing the Effectiveness of the Arbitration Program as a Means of Settling Household Goods Disputes

AGENCY: Federal Motor Carrier Safety Administration (FMCSA), Department of Transportation (DOT).

ACTION: Notice and request for comments.

SUMMARY: In accordance with the Paperwork Reduction Act of 1995, this notice announces FMCSA's plan to submit the Information Collection Request (ICR) abstracted below to the Office of Management and Budget (OMB) for review and approval. The ICR is related to the current arbitration dispute resolution procedures used to settle loss and damage claims by shippers who have contracted with household goods (HHGs) carriers for interstate transport of their household goods shipments. On October 24, 2005, the agency published a Federal Register notice with a 60-day comment period to solicit the public's views on the information collection pertaining to this subject. One comment was received.

DATES: Comments must be submitted on or before May 1, 2006. A comment to OMB is most effective if OMB receives it within 30 days of this publication.

ADDRESSES: Send comments to the Office of Information and Regulatory Affairs, Office of Management and Budget, 725 Seventeenth Street, NW., Washington, DC 20503, Attention DOT/FMCSA Desk Officer.

FOR FURTHER INFORMATION CONTACT: Mr. Darrell Ruban, (202) 385-2400, Commercial Enforcement Division (MC-ECC), Federal Motor Carrier Safety Administration, U.S. Department of Transportation, 400 Seventh Street, SW., Washington, DC 20590. Office hours are from 8 a.m. to 5 p.m., e.t., Monday through Friday, except Federal holidays.

SUPPLEMENTARY INFORMATION: This package contains the following supplementary information:

Title: Assessing the Effectiveness of the Arbitration Program as a Means of Settling Household Goods Disputes.

OMB Control Number: 2126-XXXX.

Type of Request: New information collection.

Background: The Secretary of Transportation (Secretary) is authorized to register for-hire motor carriers of regulated commodities under the provisions of 49 U.S.C. 13902, surface freight forwarders under the provisions of 49 U.S.C. 13903, and property brokers under the provisions of 49 U.S.C. 13904. These persons may conduct interstate transportation services only if they are registered pursuant to 49 U.S.C. 13901. As a condition of registration under 49 U.S.C. 13902 and 13903 [The Interstate Commerce Commission Termination Act of 1995 (ICCTA), (Pub. L. 104-88, 109 Stat. 803), (now codified at 49 U.S.C. 14708(a))], a carrier providing transportation of household goods subject to jurisdiction under subchapters I or III of chapter 135, title 49, U.S.C., must agree to offer arbitration to HHGs shippers as a means of settling disputes concerning damage or loss to the household goods transported, and to determine whether carrier charges, in addition to those collected at delivery, must be paid by shippers for transportation and services related to transportation of household goods [Safe, Accountable, Flexible, Efficient Transportation Equity Act: A Legacy for Users (SAFETEA-LU), Public Law 109-59, 119 Stat. 1144, Aug. 10, 2005 (H.R. 3, Sec. 4208. Arbitration Requirements)].

Under 49 U.S.C. 14708(g), the Secretary is required to complete an assessment of the dispute settlement program and if, after notice and opportunity for comment, it is determined that changes to the program are necessary, the Secretary will implement such changes and provide a report to Congress on the changes made. The General Accountability Office (GAO) recommended such an assessment in their March 2001 review (Report Number GAO-01-318). The Secretary has delegated authority pertaining to these registrations and arbitration matters to FMCSA.

Since the passage of the ICCTA, the level of Federal involvement in mitigating interstate HHGs disputes has been significantly reduced. FMCSA is responsible for overseeing the arbitration process, but has provided only limited attention, staffing, and resources to this non-safety related function. Shippers of household goods unhappy about loss or damage to property during their move with an interstate HHGs carriers may follow one of several paths to settle disputes as follows: (1) File a complaint with consumer assistance organizations or FMCSA; (2) agree to participate in a binding arbitration process with the American Moving and Storage Association (AMSA) or some other organization that runs an arbitration process; or (3) pursue civil litigation. Each carrier providing transportation of household goods must agree to offer to shippers of HHGs neutral arbitration, as well as a concise easy-to-read, accurate summary of the arbitration procedure, any applicable costs, and disclosure of the legal effects of election to utilize arbitration and inform shippers about the availability of this process to resolve complaints (49 U.S.C. § 14708(a) and (b)(2)). As mandated by Congress, FMCSA is required to determine the effectiveness of arbitration as a means of settling HHGs disputes from the point of view of both interstate shippers and carriers. The increasing number of consumer complaints related to HHGs shipments received by FMCSA and other consumer protection organizations demonstrates the current need for such an assessment.

Frequency: Annually.

Respondents: Household goods shippers and carriers.

Estimated Number of Respondents: 324 [100 respondents × 3 surveys + 24 respondents × 1 survey = 324 respondents].

Average Burden per Response: 30 minutes per survey.

Total Annual Hours Requested: The estimated total annual burden is 162 hours for the information collection comprised of four arbitration satisfaction surveys—one for HHGs arbitration users, one for HHGs arbitration complainants, one for HHGs carriers; and one for HHGs arbitration filers who have filed complaints with FMCSA [100 respondents × 3 surveys + 24 respondents × 1 survey × 30 minutes/60 minutes = 162 hours].

Comments are invited on: (a) Whether the proposed collection of information is necessary for the proper performance of the functions of FMCSA, including whether the information will have practical utility; (b) the accuracy of the estimated burden; (c) ways to enhance the quality, utility, and clarity of the information to be collected; and (d) ways to minimize the burden of the collection of information on respondents, without reducing the quality of the collected information. All responses to this notice will be summarized and included in the request for OMB approval.

Issued on: March 24, 2006.
Annette M. Sandberg,
Administrator.

[FR Doc. E6-4684 Filed 3-30-06; 8:45 am]

BILLING CODE 4910-EX-P